DEPARTMENT OF TRANSPORTATION

Research and Special Programs Administration

International Standards on the Transport of Dangerous Goods; Public Meetings

AGENCY: Research and Special Programs Administration (RSPA), Department of Transportation.

ACTION: Notice of public meetings.

SUMMARY: This notice is to advise interested persons that RSPA will conduct public meetings in preparation for and to report the results of the eighteenth session of the United Nation's Sub-Committee of Experts on the Transport of Dangerous Goods (UNSCOE) to be held July 3-13, 2000 in Geneva, Switzerland.

DATES: June 21, 2000 10 a.m.-1 p.m., Room 6244-6248; July 19, 2000, 10 a.m.-1 p.m., Room 6244-6248.

ADDRESSES: Both meetings will be held at DOT Headquarters, Nassif Building, Room 6244-6248, 400 Seventh Street SW., Washington, DC 20590.

FOR FURTHER INFORMATION CONTACT: Frits Wybenga, International Standards Coordinator, Office of Hazardous Materials Safety, or Bob Richard, Assistant International Standards Coordinator, Office of Hazardous Materials Safety, Department of Transportation, Washington, DC 20590; (202) 366-0656.

SUPPLEMENTARY INFORMATION: The primary purpose of the first meeting will be to prepare for the eighteenth session of the UNSCOE and to discuss U.S. positions on UNSCOE proposals. The primary purpose of the second meeting will be to provide a briefing on the outcome of the UNSCOE session and to prepare for the twenty-first Session of the United Nations Committee of Experts on the Transport of Dangerous Goods (UNSCOE) which is scheduled for December 4-13, 2000 in Geneva, Switzerland. Topics to be covered during the public meetings include: (1) Global harmonization of classification criteria, (2) Reformatting the UN Recommendations into a model rule, (3) Criteria for Environmentally Hazardous Substances, (4) Intermodal portable tank requirements including requirements for the transport of solids in portable tanks, (5) Requirements applicable to small quantities of hazardous materials in transport (limited quantities) including package marking requirements, package quantity limits and requirements applicable to consumer commodities, (6) Harmonized requirements for compress gas cylinders, (7) Classification of individual substances, (8) Requirements for bulk and non-bulk packagings used to transport hazardous materials and (9) Hazard communication requirements including harmonized shipping paper requirements.

The public is invited to attend without prior notification.

Documents

Copies of documents for the UNSCOE meeting may be obtained by downloading them from the United Nations Transport Division's web site at http://www.unece.org/trans/main/dgdb/dgsubc/dgscomm.html. Information concerning UN dangerous goods meetings including agendas can be downloaded at http://www.unece.org/trans/danger/meetings.htm#ST/SG. These sites may also be accessed through RSPA's Hazardous Materials Safety Homepage at http://hazmat.dot.gov/intstandards.htm. RSPA's site also provides information regarding the UNSCOE and related matters such as a summary of decisions taken at the 17th session of the UNSCOE, meeting dates and a summary of the primary topics which the UNSCOE plans to address in the 1999-2000 biennium.

Issued in Washington, DC, on May 22, 2000.
Robert A. McGuire,
Acting Associate Administrator for Hazardous Materials Safety.

[FR Doc. 00-13183 Filed 5-24-00; 8:45 am]

BILLING CODE 4910-60-M